ENVIRONMENTAL PROTECTION AGENCY

[FRL-7484-9]

Public Water System Supervision Program Revisions for Nebraska

AGENCY: Environmental Protection Agency (EPA).

ACTION: Notice of tentative approval and solicitation of requests for a public hearing.

SUMMARY: Notice is hereby given that Nebraska is revising its approved Public Water System Supervision Program. The EPA has determined that these revisions are no less stringent than the corresponding Federal regulations. Therefore, the EPA intends to approve these program revisions. All interested parties may request a public hearing on the approval.

DATES: A request for a public hearing must be submitted in writing by May 19, 2003 to the Regional Administrator at the EPA Region 7 address below.

ADDRESSES: Copies of documents related to this determination are available for inspection between the hours of 9 a.m. and 3 p.m., Monday through Friday, at the following locations: EPA Region 7, 901 N. 5th Street, Kansas City, Kansas, 66101, and Nebraska Health and Human Services, Mr. Jack Daniel, Administrator, 301 Centennial Mall South, 3rd Floor, PO Box 95007, Lincoln, Nebraska 68509-5007.

FOR FURTHER INFORMATION CONTACT: Kenneth Deason, 913-551-7585.

SUPPLEMENTARY INFORMATION: Nebraska has adopted (1) a revised definition of “public water systems” (63 FR 23361-23368, April 28, 1998); (2) regulations establishing Administrative Penalty Authority for all violations of their approved primacy program (63 FR 23361-23368, April 28, 1998); (3) a Stage 1 Disinfectant/ Disinfection By-Products Rule, setting requirements to limit the formation of chemical disinfectant by-products in drinking water (63 FR 69389-69476, December 16, 1998); and (4) an Interim Enhanced Surface Water Treatment Rule to improve control of microbial pathogens in drinking water, including the protozoan, Cryptosporidium (63 FR 69477-69521, December 16, 1998).

Any request for a public hearing must include the following information: (1) The name, address, and telephone number of the individual, organization, or other entity requesting a hearing; (2) a brief statement of the requesting person's interest in the Regional Administrator's determination and a brief statement of information that the requesting person intends to submit at such hearing; and (3) the signature of the individual making the request; or, if the request is made on behalf of an organization or other entity, the signature of a responsible official of the organization or other entity.

Insubstantial requests for a hearing may be denied by the Regional Administrator. However, if a substantial request is made by May 19, 2003, a public hearing will be held. If no timely and appropriate request for a hearing is received and the Regional Administrator does not elect to hold a hearing on his own motion, this determination will become final and effective on May 19, 2003.

Authority: 40 CFR 142.12

Dated: April 3, 2003.
James B. Gulliford,
EPA Region 7 Administrator.

[FR Doc. 03-9481 Filed 4-16-03; 8:45 am]

BILLING CODE 6560-50-P